DEPARTMENT OF HOUSING AND URBAN DEVELOPMENT

[Docket No. FR-6325-N-01]

Notice of Regulatory Waiver Requests Granted for the First Quarter of Calendar Year 2022

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2022 and ending on March 31, 2022.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2022.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2022 through March 31, 2022. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2022) before the next report is published (the second quarter of calendar year 2022), HUD will include any additional waivers granted for the first quarter in the next report.

Accordingly, information about approved waiver requests pertaining to HUD regulations is provided in the Appendix that follows this notice.

Damon Smith,
General Counsel.

Appendix

Listing of Waivers of Regulatory Requirements Granted by Offices of the Department of Housing and Urban Development January 1, 2022 Through March 31, 2022

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

Regulatory Waivers Granted by the Office of Community Planning and Development

For further information about the following regulatory waivers, please see the name of the contact person that immediately follows the description of the waiver granted.

• Regulation: 24 CFR 91.105(e)(1) and (2), 24 CFR 91.115(b)(3)(i), 24 CFR 91.401, and 24 CFR 570.431, 570.441, and 570.486(a)(5).

Project/Activity: Any HUD Community Planning and Development (CPD) grantee in the preparation of their FY 2022 Consolidated Plan or Annual Action Plan and FY 2022 Plan substantial amendments.

Nature of Requirement: 24 CFR 91.105(e)(1) and (2), 24 CFR 91.115(b)(3)(i), 24 CFR 91.401, and 24 CFR 570.431, 570.441, and 570.486(a)(5) set forth requirements for a grantee's citizen participation plan in the development of the consolidated plan. These requirements include the minimum number of hearings, the methods of holding hearings, requirements on providing adequate notice for hearings, and requirements on obtaining informed comment.

Date Granted: March 3, 2022.

Reason Waived: HUD recognizes that efforts to contain COVID-19 require limiting in person public gatherings, such as those often used to obtain citizen views and respond to proposals and questions. Therefore, HUD waives the regulation to the extent necessary to permit the following: For as long as national or local health authorities recommend social distancing and limiting public gatherings for public health reasons, CDBG, ESG, HOME, HTF, and HOPWA grantees, units of general local government receiving grant funds from a State, and insular area grantees, may hold virtual public hearings in lieu of in-person public hearings to fulfill public hearing requirements imposed by 42 U.S.C. 12707(a)(3) and the regulations at 24 CFR part 91 and 24 CFR part 570, or by the grantee's citizen participation plan for the preparation of FY2022 Consolidated Plans, Action Plans and any substantial amendments thereto or to prior year plans.

Contact: James E. Hoemann, Director, Entitlement Communities Division, Community Planning and Development, Department of Housing and Urban Development, 451 Seventh Street SW, Room 7282, Washington, DC 20410, telephone (202) 402-5716.

• Regulation: 24 CFR 92.212(b) (HOME participating jurisdictions) and 24 CFR 570.200(h) (Entitlement CDBG program, the Insular Areas CDBG program, and for grants to non-entitlement counties in Hawaii)

Project/Activity: HUD Community Planning and Development (CPD) grantees in the CDBG and HOME programs.

Nature of Requirement: Under 24 CFR 92.212(b) (HOME) and 24 CFR 570.200(h), the effective date of the grant agreement is the program year start date or the date that the consolidated plan is received by HUD, whichever is later. These dates determine when a grantee may incur pre-award costs. For HOME, eligible administrative and planning costs may be incurred as of the beginning of the program year or the date the consolidated plan describing the HOME allocation to which the costs will be charged is received by HUD, whichever is later.

Granted By: James Arthur Jemison II, Principal Deputy Assistant Secretary for Community Planning and Development.

Date Granted: March 23, 2022.

Reason Waived: This waiver will allow a grantee or participating jurisdiction to treat the effective date of the grant agreement as the program year start date or the date that the consolidated plan/action plan (with actual allocation amounts) is received by HUD, whichever is earlier. HUD waives 24 CFR 92.212(b) to the extent necessary to permit eligible pre-award costs to be incurred as of the beginning of the program year or the date the consolidated plan describing the HOME allocation to which the costs will be charged is received by HUD, whichever is earlier. HUD recognizes that some activities may be interrupted, and grantees might not otherwise be able to use CDBG and HOME funds for ongoing planning and administrative costs without this waiver. This waiver is in effect until August 16, 2022, and was transmitted with the Notice CPD-22-05 “Guidance on Submitting Consolidated Plans and Annual Action Plans for Fiscal Year (FY) 2022.”

Contact: Virginia Sardone, Director, Office of Affordable Housing Programs, Office of Community Planning and Development, Department of Housing and Urban Development, 451 Seventh Street SW, Room 7160, Washington, DC 20410, telephone (202) 708-2684.

James E. Hoemann, Director, Entitlement Communities Division, Community Planning and Development, Department of Housing and Urban Development, 451 Seventh Street SW, Room 7282, Washington, DC 20410, telephone (202) 402-5716.

• Regulation: 24 CFR 92.214(a)(6).

Project/Activity: The City of Newton, Massachusetts, the lead entity of the WestMetro HOME Consortium requested a waiver of 24 CFR 92.214(a)(6) to allow the participating jurisdiction to invest additional HOME funds in a previously assisted HOME project, St. Joseph Hall.

Nature of Requirement: The regulation at 24 CFR 92.214(a)(6) prohibits a participating jurisdiction from investing additional HOME funds in a previously assisted HOME project during its required affordability period.

Granted By: James Arthur Jemison II, Principal Deputy Assistant Secretary for Community Planning and Development.

Date Granted: February 1, 2022.

Reason Waived: The original rehabilitation did not include replacement of the elevator because the architect and general contractor determined that it could remain operable with managed investment over time. In 2017, the elevator manufacturer recommended an overhaul of the elevator's system, however the LIHTC investor did not approve funds for the work. In August 2019, the elevator became inoperable and the owner had to relocate a majority of the elderly tenants for approximately 14 days while the elevator underwent repairs. These emergency repairs cost $71,252, which was approximately 20 percent of the project's total reserves. The CHDO determined that it must replace the elevator to avoid additional costly emergency repairs. The Department recognizes that without an additional investment of HOME funds, the property will not be able to meet ongoing property standards, be at risk of financial hardship, and the wellbeing of the elderly tenants would be significantly impacted.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: San Mateo County, California requested a waiver of 24 CFR 92.252(d)(1) to allow use of the utility allowance established by the local public housing agency (PHA) for the Colma Veterans Village HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development.

Date Granted: February 1, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 570.705(f): Loan Requirements, Loan Repayment Period.

Project/Activity: Bucks County of Pennsylvania requested a waiver of the regulations governing loan guarantees under Section 108 of the Housing and Community Development Act, as amended, to extend the maximum term of the guaranteed loan. The maximum loan repayment period at 24 CFR 570.705 (f) is twenty years. The initial maturity of the guaranteed loan was August 1, 2022, which would have resulted in a repayment period of nineteen years and two months. The waiver permitted the extension of the maturity to August 1, 2023 and resulted in a loan term of 20 years and two months. The project financed by the guaranteed loan entails the acquisition of real property and infrastructure construction for a mixed-use economic development project.

Nature of Requirement: The term of debt obligations under 24 CFR Subpart M-Loan Guarantees shall not exceed twenty years.

Granted by: James Arthur Jemison II, Principal Deputy Assistant Secretary for Community Planning and Development.

Date Granted: January 11, 2022.

Reason Waived: The need for an extended timeline resulted from additional, unexpected remediation activities and COVID-19 delays. The financial consequence of the COVID-19 crisis was substantial in that it delayed the completion and sale of property assisted under the project by an additional year.

The revenue generated from the sale of the property is the intended source of repayment of the guaranteed loan. Extending the maximum term will therefore enhance both the financial feasibility of the assisted project and the security for repayment of the guaranteed loan.

Contact: Paul Webster, Director, Office of Financial Management Division, Office of Community Planning and Development, Department of Housing and Urban Development, 451 Seventh Street SW, Room 7282, Washington, DC 20410, telephone (202) 402-4563.

II. Regulatory Waivers Granted by the Office of Housing—Federal Housing Administration (FHA)

For further information about the following regulatory waivers, please see the name of the contact person that immediately follows the description of the waiver granted.

• Regulation: 24 CFR 206.304(b)(2).

Project/Activity: The requirement for a Home Equity Conversion Mortgage (HECM) counselor to have passed an exam within the prior 3 years to remain on the HECM Counselor Roster and of HUD Housing Counseling Handbook 7610.1 REV-5. Chapter 4, Reverse Mortgage Housing Counseling, paragraph 4-2.

Nature of Requirement: This temporary waiver is being issued to ensure that HUD's HECM Roster pool remains at or near the current level of approximately 450 approved and HUD-certified HECM Roster counselors.

Granted by: Lopa P. Kolluri, Principal Deputy Assistant Secretary for Housing—Federal Housing Commissioner.

Date Granted: January 10, 2022.

Reason Waived: Absent this waiver, clients who are age 62 or older and seeking an HECM are at risk of significant delays in scheduling and completing the mandated counseling session before loan application can proceed. The granting of the temporary waiver is consistent with the Department's objectives to assist consumers age 62 or older, who are considering applying for a HECM mortgage, to schedule the counseling required for this FHA-insured loan product in a timely manner; this temporary waiver will assist in maintaining a large pool of qualified HECM roster counselors for consumers selecting and scheduling their counseling.

Contact: Brian Siebenlist, Director, Housing Counseling, Office of Policy and Grant Administration, Office of Housing, Department of Housing and Urban Development, 451 Seventh Street SW, Room 9224, Washington, DC 20024, telephone (202) 402-5145.

• Regulation: 24 CFR 214.300(a)(3).

Project/Activity: HUD's In-Person Service Housing Counseling Program.

Nature of Requirement: Pursuant to 24 CFR 214.300(a)(3), “[c]ounseling may take place in the office of the housing counseling agency, at an alternate location, or by telephone, as long as mutually acceptable to the housing counselor and client. All agencies participating in HUD's Housing Counseling program that provide services directly to clients must provide in-person counseling to clients that prefer this format.”

According to the Centers for Disease Control (CDC), as of December 20, 2021, Omicron has been detected in most states and territories and is resulting in a rapid increase in COVID-19 cases. In addition, the CDC and World Health Organization has asserted that the Omicron variant likely will spread more easily than the original SARS-CoV-2 virus. The CDC expects that anyone with Omicron infection can spread the virus to others, even if they are vaccinated or do not have symptoms.

HUD recognizes that there continues to be a demand for housing counseling services by clients facing financial hardship due to the spread of the COVID-19 virus.

Granted by: Lopa P. Kolluri, Principal Deputy Assistant Secretary for Housing—Federal Housing Commissioner

Date Granted: February 7, 2022.

Reason Waived: This partial waiver allows participating agencies to provide continuous services in a format other than in-person without violating the requirements of 24 CFR 214.300(a)(3).

Contact: Brian Siebenlist, Director, Housing Counseling, Office of Policy and Grant Administration, Office of Housing, Department of Housing and Urban Development, 451 Seventh Street SW, Room 9224, Washington, DC 20024, telephone (202) 402-5145.

• Regulation: 24 CFR 219.220(b).

Project/Activity: In-Chu-Co Apartments, FHA Project Number 053-44032T, Chapel Hill, North Carolina. Inter-Church Council Housing Corporation (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Lopa P. Kolluri, Principal Deputy Assistant Secretary for Housing-Deputy Federal Housing Commissioner.

Date Granted: February 5, 2022.

Reason Waived: The owner requested and was granted waiver of the requirement to repay the Flexible Subsidy Operating Assistance Loans in full when they became due. Deferring the loan payments will preserve these affordable housing resources for an additional 35 years through the execution and recordation of a Rental Use Agreement.

Contact: Margaret Wingate, Acting Director, Field Asset Management Division, Department of Housing and Urban Development, 451 Seventh Street SW, Washington, DC 20410, telephone: (202) 402-2231.

• Regulation: 24 CFR 219.220(b) (1995).

Project/Activity: Weinberg Place, Baltimore, MD, FHA# 052-SH009T.

Nature of Requirement: The regulation at 24 CFR 219.220(b) (1995), which governs the repayment of operating assistance provided under the Flexible Subsidy Program for Troubled Projects, states “Assistance that has been paid to a project owner under this subpart must be repaid at the earlier of expiration of the term of the mortgage, termination of mortgage insurance, prepayment of the mortgage, or a sale of the project.” The property is subject to a pre-1974 Section 202 direct loan which matured on September 1, 2021 and was paid in full on September 18, 2021. The Project was awarded two Flexible Subsidy Operating Assistance Loans (Flex Sub Loan(s)) in the combined amount of $2,166,344.00 in 1991 and 2001 at 1 percent interest per annum. The Flex Sub Loan Surplus Cash Note contains a provision requiring payment of the principal and the interest, in full, if the Section 202 direct mortgage loan matures or is paid in full, or upon the sale, foreclosure, refinancing, assignment or any other disposition of the project.

Granted by: Lopa P. Kolluri, Principal Deputy Assistant Secretary for Housing—Federal Housing.

Date Granted: February 5, 2022.

Reason Waived: The proposed owner requested and was granted waiver of the requirement to repay the Flex Sub Loans in full when it became due. Deferring the loan payment will preserve the affordable housing resource for an additional 20 years through the execution and recordation of a Use Agreement. The proposed owner plans to pay off the entire Flex Sub Loans combined principal balance of $2,166,344.00. The Flex Sub Loan as of October 15, 2021, had accrued interest of approximately $518,928.30 based upon the current interest rate of 1 percent. Therefore, the owner's total outstanding obligation under this Flex Sub loan, as of October 15, 2021, was $2,685,272.30. A new pay off request to include interest will be requested at least 30 days prior to closing.

Until repayment, the balance of the Flex Sub Loans will be secured by a Surplus Cash Note. The current owner will allocate 75 percent of surplus cash to pay down the Flex Sub Loans between now and closing on the LIHTC Transaction. The current owner will remain subject to the Surplus Cash Note and the 75 percent of surplus cash requirement even if the LIHTC transaction is not closed by March 31, 2022.

The Office of Recapitalization will require a 20-year Use Agreement as a condition of the Flexible Subsidy Loan Repayment Deferral. The Use Agreement will extend project affordability to 20 years from the date of the original Section 202 mortgage maturity or the date of full repayment of the fully amortized Flexible Subsidy Loan, whichever is longer.

Contact: Brenda Sharon Young, Transaction Manager, Office of Recapitalization, Office of Housing, Department of Housing and Urban Development, 451 Seventh Street SW, Washington, DC, 20410, Room 6128, telephone (202) 402-6275, Brenda.S.Young@hud.gov.

III. Regulatory Waivers Granted by the Office of Public and Indian Housing

For further information about the following regulatory waivers, please see the name of the contact person that immediately follows the description of the waiver granted.

• Regulation: 24 CFR 982.303(b)(1).

Nature of Requirement: Notice PIH 2021-34 Expedited Waivers for the Public Housing and Housing Choice Voucher (including Mainstream and Mod Rehab) Program(s), 24 CFR 982.303(b)(1) allows PHAs to grant a family one or more extensions of the initial voucher term regardless of the policy described in the Administrative Plan. PHAs should ensure consistency with these requests and remain in compliance with the PHA's informally adopted interim standard.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted by: Dominique Blom, General Deputy Assistant Secretary for Public and Indian Housing.

Date Granted: January 1-March 31, 2022.

Project/Activity: North Tonawanda, City Housing Authority; Thurston County Housing Authority; Kennewick Housing Authority; Sonoma Housing Authority; Redding Housing Authority; Newark Housing Authority; Laconia Housing and Redevelopment Authority; Akron Metropolitan Housing Authority; Marlboro County Housing Authority; Roanoke Redevelopment and Housing Authority; Spokane Housing Authority; Jonesboro Housing Authority; Riverside County Housing Authority; Tampa Housing Authority; Amherst, Town Housing Authority; Salem Housing Authority; Douglas Housing Authority; Georgia Department of Community Affairs; Great Bend Housing Authority; New Orleans Housing Authority; Stearns County Housing and Redevelopment Authority; St. Louis Housing Authority; New Hampshire Housing Finance Agency; Palm Beach County Housing Authority; Hagerstown Housing Authority; Scottsdale Housing Authority; Lewiston Housing Authority; Municipality of Ponce Housing Authority; City of Norwalk Housing Authority; Missoula Housing Authority; Lebanon Housing Authority; Erie County Housing Authority; Darlington Housing Authority; Cheraw Housing Authority; Pahokee Housing Authority; Easton Housing Authority; Municipality of Cidra Housing Authority; Gary Housing Authority; Bath Housing Authority; Ann Arbor Housing Commission; Itasca County Housing and Redevelopment Authority; Sedalia Housing Authority; Jackson Housing Authority; City of Mesa Housing Authority; Winslow Housing Authority; Cochise County Housing Authority; Hawaiian Gardens Housing Authority; Sanford Housing Authority; Lincoln Housing Authority; Municipality of Guanica Housing Authority; Municipality of Aibonito Housing Authority; Greenwood Housing Authority; Davis Community Housing Authority; Chandler Housing Authority; Macon-Bibb County Housing Authority; Hawaii County Housing Authority; Albany Housing Authority; Northwest Oregon Housing Authority; Housing Authority of the City of Pasco and Franklin County; Skagit County Housing Authority; Little Rock Housing Authority; Gila County Housing Authority; Fort Wayne Housing Authority; Kenner Housing Authority; Methuen Housing Authority; Brunswick Housing Authority; Concord Housing Authority; Town of Islip Housing Authority; Carbon County Housing Authority; Chattanooga Housing Authority; Franklin Redevelopment and Housing Authority; Housing Authority of Maricopa County; LA County Development Authority (LACDA); San Joaquin Housing Authority; Tulare Housing Authority; Culver City Housing Authority; Roseville Housing Authority; Flagler County Housing Authority; Clearwater Housing Authority; Pensacola, City Housing Authority; Eckan Housing; Detroit Housing Commission; Grand Rapids Housing Commission; Red Wing Housing and Redevelopment Authority; Wilson Housing Authority; Geauga Metropolitan Housing Authority; Housing Works; Allentown Housing Authority; Municipality of Caguas Housing Authority; Municipality of Canovanas Housing Authority; Memphis Housing Authority; Lafollette Housing Authority; Etowah Housing Authority; Suffolk Redevelopment and Housing Authority; Prichard Housing Authority; Tucson Housing and Community Development; Pinal County Housing Authority; Pima County Housing Authority; Santa Barbara City Housing Authority; Pasadena Housing Authority; Encinitas Housing Authority; Bristol Housing Authority; Decatur Housing Authority; Crawfordsville Housing Authority; Decatur Housing Authority; Greencastle Housing Authority; Roseville Housing Commission; Plymouth Housing Commission; Mount Pleasant Housing Commission; Washington County Community Development Agency; The New Reidsville Housing Authority; Berlin Housing Authority; Lancaster Housing Authority; Northumberland Housing Authority; Santa Fe Civic Housing Authority; Santa Fe County Housing Authority; Western Regional Housing Authority; Southern Nevada Regional Housing Authority; Mid-Columbia Housing Authority; Delaware County Housing Authority; South Kingstown Housing Authority; Municipality of Coamo Housing Authority; Barre Housing Authority; Columbia Gorge Housing Authority; Winnebago County Housing Authority; Shasta County Housing Authority; San Diego County Housing Authority; Pomona Housing Authority; Imperial Valley Housing Authority; Colorado Division of Housing; Wallingford Housing Authority; City And County of Honolulu Housing Authority; Boone County Housing Authority; Anderson Housing Authority; Cannelton Housing Authority; St. John The Baptist Parish Housing Authority; Benton Township Housing Commission; Mountain Projects, Inc.; Josephine Housing Council; Municipality of San Juan Housing Authority; Brownsville Housing Authority; Corpus Christi Housing Authority; Winooski Housing Authority; Milwaukee Housing Authority; Monterey Housing Authority; Marin Housing; Vallejo Housing Authority; Baldwin Park Housing Authority; Pasco County Housing Authority; Savannah Housing Authority; Indianapolis Housing Agency; Michigan City Housing Authority; Lowell Housing Authority; Quincy Housing Authority; Hanson Housing Authority; Carroll County Housing and Community Development; Neptune Housing Authority; Cincinnati Metropolitan Housing Authority; Tioga County Housing Authority; Dubois Housing Authority; Northampton County Housing Authority; Lehigh County Housing Authority; Municipality of Guaynabo Housing Authority; Municipality of Manati Housing Authority; Municipality of Lares Housing Authority; Eat Tennessee Human Resource Agency; Bessemer Housing Authority; Denver Housing Authority; Marietta Housing Authority; Prince Georges Housing Authority; Westmoreland County Housing Authority; York Housing Authority; Lake Metropolitan Housing Authority; Deep East Texas Council of Governments; South Gate Housing Authority; Vacaville Housing Authority; Solano Housing Authority; Gainesville Housing Authority; Winter Haven Housing Authority; Dekalb County Housing Authority; Housing Authority of Elgin; East Chicago Housing Authority; Rockville Housing Authority; Baltimore County, MD Housing Authority; Pontiac Housing Commission; Inkster Housing Commission; Ionia Housing Commission; Mississippi Regional Housing Authority VII; Mississippi Regional Housing Authority VI; Western Piedmont Council of Governments; Isothermal Housing Authority; Madison County Housing Authority; Nashua Housing Authority; El Camino Real Housing Authority; Syracuse Housing Authority; Cortland Housing Authority; Wayne County Housing Authority; Municipality of Bayamon Housing Authority; Municipality of Guayama Housing Authority; Beaufort Housing Authority; Jackson Housing Authority; Oak Ridge Housing Authority; Cheyenne Housing Authority; Decatur Housing Authority; Connecticut Department of Housing; Ft. Myers Housing Authority; Newnan Housing Authority; Boise City Housing Authority; Ada County Housing Authority; Vincennes Housing Authority; Bloomington Housing Authority; Lafayette Housing Authority; Northampton Housing Authority; Stockbridge Housing Authority; Norwood Housing Authority; Portland Housing Authority; Auburn Housing Authority; Ellsworth Housing Authority; Kansas City, MO Housing Authority; Wilmington Housing Authority; Raleigh Housing Authority; North Carolina Commission of Indian Affairs; Grand Forks Housing Authority; Fairport, Village Housing Authority; Pawtucket Housing Authority; Cranston Housing Authority; Puerto Rico Public Housing Administration; Municipality of Carolina Housing Authority; Municipality of Dorado Housing Authority; Municipality of Humacao Housing Authority; Municipality of Rincon Housing Authority; Municipality of Arroyo Housing Authority; Municipality of Ceiba Housing Authority; Chester Housing Authority; Sioux Falls Housing Authority; Tennessee Housing; Abilene Housing Authority; Hopewell Redevelopment and Housing Authority; Norfolk Redevelopment and Housing Authority; Housing Kitsap Public Housing Authority; Dane County Housing Authority; Weirton Housing Authority.

• Regulation: 24 CFR 982.503(b).

Nature of Requirement: Notice PIH 2021-34 Expedited Waivers for the Public Housing and Housing Choice Voucher (including Mainstream and Mod Rehab) Program(s), 24 CFR 982.503(b) allows PHAs to establish payment standards up to 120 percent of the fair market rent.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: January 1-March 31, 2022.

Project/Activity: Franklin County Regional Housing Authority; Auburn Housing Authority; Ellsworth Housing Authority; Kennewick Housing Authority; Fairfield Housing Authority; Lakeland Housing Authority; Laconia Housing and Redevelopment Authority; Roanoke Redevelopment and Housing Authority; Spokane Housing Authority; Huntsville Housing Authority; Birmingham Housing Authority; Mohave County Housing Authority; Walton County Housing Authority; Helena Housing Authority; North Providence Housing Authority; Bellingham Housing Authority; Tempe Housing Authority; Housing Authority of the City of Los Angeles; Georgia Department of Community Affairs; Great Bend Housing Authority; St. Louis Housing Authority; New Hampshire Housing Finance Agency; City of Poughkeepsie Housing Authority; San Bernardino County Housing Authority; Ft. Lauderdale Housing Authority; Greenfield Housing Authority; Bucks County Housing Authority; Tuscaloosa Housing Authority; Scottsdale Housing Authority; Torrance Housing Authority; Garfield County Housing Authority; Newark Housing Authority; West Palm Beach Housing; Northwest Iowa Housing Authority; Mass Housing and Community Development; Lewiston Housing Authority; Lapeer Housing Commission; Columbus County Housing Authority; Community Development Corporation of Long Island; Cuyahoga Metropolitan Housing Authority; Chester Housing Authority; Chester County Housing Authority; Luzerne County Housing Authority; Luzerne County Housing Authority; Cumberland Housing Authority; Housing Authority of Washington County; Lincoln County Housing Authority; St. Charles County Housing Authority; Missoula Housing Authority; Lebanon Housing Authority; Darlington Housing Authority; Vermont State Housing Authority; Jefferson County Housing Authority; Berkeley Housing Authority; Palm Beach County Housing Authority; Idaho Housing and Finance Association—Sec 8; Gary Housing Authority; Bath Housing Authority; Ann Arbor Housing Commission; Sedalia Housing Authority; Montana Department of Commerce—Montana Housing; New York State Housing Trust Fund Corporation; Jackson Housing Authority; Brown County Housing Authority; City of Mesa Housing Authority; Humboldt Housing Authority; Lake Wales Housing Authority; Southern Iowa Regional Housing Authority; Yamhill Housing Authority; Mobile Housing Authority; Chandler Housing Authority; San Francisco Housing Authority; College Park Housing Authority; Elwood Housing Authority; Albany Housing Authority; Northwest Oregon Housing Authority; Easton Housing Authority; Municipality of Fajardo Housing Authority; Housing Authority of the City of Pasco and Franklin County; Gila County Housing Authority; Cedar Rapids Housing Authority; Fort Wayne Housing Authority; St. Joseph County Housing Authority; Kenner Housing Authority; Prince Georges Housing Authority; Brunswick Housing Authority; Town of Islip Housing Authority; North Hempstead Housing Authority; Canajoharie, Village Housing Authority; Chattanooga Housing Authority; Tooele County Housing Authority; Franklin Redevelopment and Housing Authority; Eufaula Housing Authority; Housing Authority of Maricopa County; LA County Development Authority; San Joaquin Housing Authority; Culver City Housing Authority; National City Housing Authority; Flagler County Housing Authority; Clearwater Housing Authority; Crawford County Housing Authority; Detroit Housing Commission; Grand Rapids Housing Commission; Red Wing Housing and Redevelopment Authority; Allentown Housing Authority; East Providence Housing Authority; Municipality of Caguas Housing Authority; Municipality of Canovanas Housing Authority; Memphis Housing Authority; Suffolk Redevelopment and Housing Authority; Boaz Housing Authority; Walker County Housing Authority; Prichard Housing Authority; Tucson Housing and Community Development; Pima County Housing Authority; Lake Housing Authority; Encinitas Housing Authority; South Windsor Housing Authority; City of Hartford Housing Authority; Wethersfield Housing Authority; Decatur Housing Authority; Asheville Housing Authority; The New Reidsville Housing Authority; East Orange Housing Authority; Santa Fe Civic Housing Authority; Southern Nevada Regional Housing Authority; Linn-Benton Housing Authority; Mid-Columbia Housing Authority; Lebanon County Housing Authority; Barre Housing Authority; Columbia Gorge Housing Authority; Wenatchee Housing Authority; Winnebago County Housing Authority; South Central Housing Authority; Little River County Housing Authority; San Diego County Housing Authority; Wallingford Housing Authority; Tampa Housing Authority; Hawaii Public Housing Authority; Muncie Housing Authority; Anderson Housing Authority; City of Covington Housing Authority; St. John The Baptist Parish Housing Authority; Benton Township Housing Commission; Nevada Rural Housing Authority; Hazleton Housing Authority; Sioux Falls Housing Authority; Corpus Christi Housing Authority; Longview Housing Authority; Milwaukee Housing Authority; Monterey Housing Authority; Vallejo Housing Authority; Baldwin Park Housing Authority; Newington Housing Authority; East Haven Housing Authority; Broward County Housing Authority; Pasco County Housing Authority; Savannah Housing Authority; Hammond Housing Authority; Michigan City Housing Authority; Elkhart Housing Authority; Neptune Housing Authority; Mercer County Housing Authority; Dubois Housing Authority; Lehigh County Housing Authority; Peninsula Housing Authority; Skagit County Housing Authority; Beloit Housing Authority; Eau Claire County Housing Authority; Bessemer Housing Authority; Arizona Behavioral Health Corporation; Denver Housing Authority; Derby Housing Authority; Canton Housing Authority; Cocoa Housing Authority; Ford County Housing Authority; St Charles Housing Authority; Westmoreland County Housing Authority; York Housing Authority; Aiken Housing Authority; Grant County Housing Authority; Lake Metropolitan Housing Authority; Deep East Texas Council of Governments; Greenville Housing Authority; Cochise County Housing Authority; Fresno City Housing Authority; Riverside County Housing Authority; Norwich Housing Authority; Glastonbury Housing Authority; Jacksonville Housing Authority; Pahokee Housing Authority; Centerville Housing Authority; Housing Authority of Elgin; Kokomo Housing Authority; Mishawaka Housing Authority; Knox County Housing Authority; Inkster Housing Commission; Ionia Housing Commission; Mississippi Regional Housing Authority VII; Concord Housing Authority; Western Piedmont Council of Governments; Isothermal Housing Authority; Madison County Housing Authority; Irvington Housing Authority; Albuquerque Housing Authority; El Camino Real Housing Authority; Niagara Falls, City Housing Authority; Warwick Housing Authority; Beaufort Housing Authority; Jackson Housing Authority; Oak Ridge Housing Authority; Virginia Housing Development Authority; Okanogan County Housing Authority; Cheyenne Housing Authority; Selma Housing Authority; Decatur Housing Authority; Sacramento County Housing Authority; Fresno County Housing Authority; San Luis Obispo Housing Authority; Sonoma Housing Authority; Santa Rosa Housing Authority; Oceanside Housing Authority; El Dorado Housing Authority; Connecticut Department of Housing; Deerfield Beach Housing Authority; Manatee County Housing Authority; Newnan Housing Authority; Boise City Housing Authority; Ada County Housing Authority; Bloomington Housing Authority; Boone County Housing Authority; Northampton Housing Authority; Housing Authority of St. Mary's County, MD; Brunswick Housing Authority; Augusta Housing Authority; St. Louis County Housing Authority; Raleigh Housing Authority; North Carolina Commission of Indian Affairs; Grand Forks Housing Authority; Newark Housing Authority; Stark Metropolitan Housing Authority; Montgomery County Housing Authority; Pawtucket Housing Authority; Puerto Rico Public Housing Administration; Municipality of Dorado Housing Authority; Municipality of Rincon Housing Authority; Tennessee Housing; Galveston Housing Authority; Abilene Housing Authority; Hopewell Redevelopment and Housing Authority; Asotin County Housing Authority; Housing Kitsap Public Housing Authority; Wisconsin Rapids Housing Authority.

• Regulation: 24 CFR 982.505(c)(4).

Nature of Requirement: Notice PIH 2021-34 Expedited Waivers for the Public Housing and Housing Choice Voucher (including Mainstream and Mod Rehab) Program(s), 24 CFR 982.505(c)(4) allows PHAs to increase the payment standard during the Housing Assistance Payment term.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: January 1-March 31, 2022.

Project/Activity: North Tonawanda, City Housing Authority; Kennewick Housing Authority; Sonoma Housing Authority; Redding Housing Authority; Laconia Housing and Redevelopment Authority; Akron Metropolitan Housing Authority; Marlboro County Housing Authority; Roanoke Redevelopment and Housing Authority; Birmingham Housing Authority; Riverside County Housing Authority; Tampa Housing Authority; Sarasota Housing Authority; Walton County Housing Authority; Winston-Salem Housing Authority; Amherst, Town Housing Authority; Salem Housing Authority; North Providence Housing Authority; Great Bend Housing Authority; New Hampshire Housing Finance Agency; Coventry Housing Authority; Palm Beach County Housing Authority; Manatee County Housing Authority; Seattle Housing Authority; Scottsdale Housing Authority; Housing Authority of The County of Santa Cruz; Torrance Housing Authority; Garfield County Housing Authority; Newark Housing Authority; Northwest Iowa Housing Authority; Lewiston Housing Authority; Michigan State Housing Development Authority; Wayne Metropolitan Housing Authority; Luzerne County Housing Authority; Cumberland Housing Authority; Delta Housing Authority; Missoula Housing Authority; Lebanon Housing Authority; Yamhill Housing Authority; Cheraw Housing Authority; Vermont State Housing Authority; Butte Housing Authority; Berkeley Housing Authority; Erie Metropolitan Housing Authority; Municipality of Cidra Housing Authority; Gary Housing Authority; Ann Arbor Housing Commission; Sedalia Housing Authority; Jackson Housing Authority; Charles City Housing Authority; Southern Iowa Regional Housing Authority; Marshall Housing Authority; Sanford Housing Authority; Municipality of Guanica Housing Authority; Davis Community; San Francisco Housing Authority; College Park Housing Authority; Elwood Housing Authority; Columbus County Housing Authority; Albany Housing Authority; Clermont Metropolitan Housing Authority; Sandusky Metropolitan Housing Authority; Northwest Oregon Housing Authority; Housing Authority of the City of Pasco and Franklin County; Gila County Housing Authority; Cedar Rapids Housing Authority; St. Joseph County Housing Authority; Kenner Housing Authority; Brunswick Housing Authority; Town of Islip Housing Authority; Cleveland Housing Authority; Franklin Redevelopment and Housing Authority; Augusta Housing Authority; Housing Authority of Maricopa County; LA County Development Authority (LACDA); Culver City Housing Authority; Flagler County Housing Authority; Clearwater Housing Authority; Pensacola, City Housing Authority; Crawford County Housing Authority; Detroit Housing Commission; Grand Rapids Housing Commission; Red Wing Housing and Redevelopment Authority; Wilson Housing Authority; Allentown Housing Authority; Municipality of Caguas Housing Authority; Municipality of Canovanas Housing Authority; Memphis Housing Authority; Boaz Housing Authority; Walker County Housing Authority; Prichard Housing Authority; Tucson Housing and Community Development; Pima County Housing Authority; Santa Barbara City Housing Authority; Mendocino County Housing Authority; Lake Housing Authority; Encinitas Housing Authority; Volusia County Housing Authority; Greencastle Housing Authority; Berlin Housing Authority; Lancaster Housing Authority; Northumberland Housing Authority; Santa Fe Civic Housing Authority; Lucas Metropolitan Housing Authority; Klamath Housing Authority; Linn-Benton Housing Authority; Mid-Columbia Housing Authority; Delaware County Housing Authority; Municipality of Fajardo; Barre Housing Authority; Columbia Gorge Housing Authority; Wenatchee Housing Authority; Winnebago County Housing Authority; San Diego County Housing Authority; Colorado Division of Housing; Boone County Housing Authority; Anderson Housing Authority; St. John The Baptist Parish Housing Authority; Benton Township Housing Commission; Mountain Projects, Inc.; Corpus Christi Housing Authority; Winooski Housing Authority; Longview Housing Authority; Milwaukee Housing Authority; The Housing Authority of The City of Montgomery; Vallejo Housing Authority; Baldwin Park Housing Authority; Savannah Housing Authority; Hammond Housing Authority; Michigan City Housing Authority; Quincy Housing Authority; Hanson Housing Authority; Cincinnati Metropolitan Housing Authority; Wilkes Barre Housing Authority; Peninsula Housing Authority; Beloit Housing Authority; Eau Claire County Housing Authority; Bessemer Housing Authority; Denver Housing Authority; Prince Georges Housing Authority; Housing Authority of Washington County; St Charles Housing Authority; Lake Metropolitan Housing Authority; Deep East Texas Council of Governments; Ford County Housing Authority; Greenville Housing Authority; Housing Authority for the City of Los Angeles; Fresno City Housing Authority; South Gate Housing Authority; Winter Haven Housing Authority; Centerville Housing Authority; Housing Authority of Elgin; Mishawaka Housing Authority; Knox County Housing Authority; Inkster Housing Commission; Mississippi Regional Housing Authority No. VII; Western Piedmont Council of Governments; Isothermal Housing Authority; Albuquerque Housing Authority; Cortland Housing Authority; Town of Brookhaven Housing Authority; West Valley Housing Authority; Jackson Housing Authority; Etowah Housing Authority; Oak Ridge Housing Authority; Mercedes Housing Authority; Ogden Housing Authority; Virginia Housing Development Authority; Selma Housing Authority; Decatur Housing Authority; Phoenix Housing Development; Sacramento County Housing Authority; Fresno County Housing Authority; San Luis Obispo Housing Authority; El Dorado Housing Authority; Newnan Housing Authority; Vincennes Housing Authority; Bloomington Housing Authority; Warsaw Housing Authority; Wichita Housing Authority; Boone County Housing Authority; Stockbridge Housing Authority; Auburn Housing Authority; Ellsworth Housing Authority; Wilmington Housing Authority; Pawtucket Housing Authority; Cranston Housing Authority; Puerto Rico Public Housing Administration; Municipality of Ceiba Housing Authority; Sioux Falls Housing Authority; Tennessee Housing; Galveston Housing Authority; Abilene Housing Authority; Hopewell Redevelopment and Housing Authority; Housing Kitsap Public Housing Authority; Wisconsin Rapids Housing Authority; Knox County Housing Authority; Inkster Housing Commission; Ionia Housing Commission; Mississippi Regional Housing Authority VII; Concord Housing Authority; Western Piedmont Council of Governments; Isothermal Housing Authority; Madison County Housing Authority; Irvington Housing Authority; Albuquerque Housing Authority; El Camino Real Housing Authority; Niagara Falls, City Housing Authority; Warwick Housing Authority; Beaufort Housing Authority; Jackson Housing Authority; Oak Ridge Housing Authority; Virginia Housing Development Authority; Okanogan County Housing Authority; Cheyenne Housing Authority; Selma Housing Authority; Decatur Housing Authority; Sacramento County Housing Authority; Fresno County Housing Authority; San Luis Obispo Housing Authority; Sonoma Housing Authority; Santa Rosa Housing Authority; Oceanside Housing Authority; El Dorado Housing Authority; Connecticut Department of Housing; Deerfield Beach Housing Authority; Manatee County Housing Authority; Newnan Housing Authority; Boise City Housing Authority; Ada County Housing Authority; Bloomington Housing Authority; Boone County Housing Authority; Northampton Housing Authority; Housing Authority of St. Mary's County, MD; Brunswick Housing Authority; Augusta Housing Authority; St. Louis County Housing Authority; Raleigh Housing Authority; North Carolina Commission of Indian Affairs; Grand Forks Housing Authority; Newark Housing Authority; Stark Metropolitan Housing Authority; Montgomery County Housing Authority; Pawtucket Housing Authority; Puerto Rico Public Housing Administration; Municipality of Dorado Housing Authority; Municipality of Rincon Housing Authority; Tennessee Housing; Galveston Housing Authority; Abilene Housing Authority; Hopewell Redevelopment and Housing Authority; Asotin County Housing Authority; Housing Kitsap Public Housing Authority; Wisconsin Rapids Housing Authority.

• Regulation: 24 CFR 982.634(a).

Nature of Requirement: Notice PIH 2021-34 Expedited Waivers for the Public Housing and Housing Choice Voucher (including Mainstream and Mod Rehab) Program(s), 24 CFR 982.634(a) allows PHAs to extend homeownership assistance for one additional year.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: January 1-March 31, 2022.

Project/Activity: New Orleans Housing Authority; New Hampshire Housing Finance Agency; Vermont State Housing Authority; Yuma City Housing Authority; Albany Housing Authority; Detroit Housing Commission; Municipality of Caguas Housing Authority; Memphis Housing Authority; Prichard Housing Authority; Lucas Metropolitan Housing Authority; Mountain Projects, Inc.; Municipality of San Juan Housing Authority; Brownsville Housing Authority; Quincy Housing Authority; Marietta Housing Authority; Prince Georges Housing Authority; Syracuse Housing Authority; Municipality of Bayamon; Ft. Myers Housing Authority; Newnan Housing Authority; Louisville Housing Authority; Portland Housing Authority; Grand Forks Housing Authority.

• Regulation: 24 CFR 984.303(d).

Project/Activity: Greensboro Housing Authority.

Nature of Requirement: Contract extension. The PHA shall, in writing, extend the term of the contract of participation for a period not to exceed two years for any FSS family that requests, in writing, an extension of the contract, provided that the PHA finds that good cause exists for granting the extension.

Granted by: Dominique Blom, General Deputy Assistant Secretary.

Date Granted: January 18, 2022.

Reason Waived: The waiver was granted to allow GHA to extend the term of the contract of participation for an additional year. GHA states it has a participant who is nearing the end of their original extension, and who would be a successful FSS graduate had they not had the COVID-19 pandemic prevent them from completing the remaining goals and fulfilling their Contract of Participation. In accordance with 24 CFR 984.303(d), good cause exists, and HUD approves.

Contact: Anice Chenault, Office of Public Housing Investments, Office of Public and Indian Housing, Department of Housing and Urban Development, 451 Seventh Street SW, Washington, DC 20140, Room 4130, telephone (502) 618-8163.

• Regulation: 24 CFR 984.303(d).

Project/Activity: Alameda County Housing Authority.

Nature of Requirement: Contract extension. The PHA shall, in writing, extend the term of the contract of participation for a period not to exceed two years for any FSS family that requests, in writing, an extension of the contract, provided that the PHA finds that good cause exists for granting the extension.

Granted by: Dominique Blom, General Deputy Assistant Secretary.

Date Granted: January 19, 2022.

Reason Waived: The waiver was granted to allow ACHA to extend the term of the contract of participation for an additional 18 month. ACHA states it has a participant whose Contract of Participation is nearing the end of her two-year extension period. Your agency has provided evidence that this participant would have been a successful FSS graduate during the Contract term had she not been subject to domestic violence circumstances which contributed to her being unable to maintain employment and remain welfare-free for 12 months prior to graduation. In accordance with 24 CFR 984.303(d), good cause exists, and HUD approves.

Contact: Anice Chenault, Office of Public Housing Investments, Office of Public and Indian Housing, Department of Housing and Urban Development, 451 Seventh Street SW, Washington, DC 20140, Room 4130, telephone (502) 618-8163.

• Regulation: 24 CFR 984.303(d).

Project/Activity: Salem Housing Authority.

Nature of Requirement: Contract extension. The PHA shall, in writing, extend the term of the contract of participation for a period not to exceed two years for any FSS family that requests, in writing, an extension of the contract, provided that the PHA finds that good cause exists for granting the extension.

Granted by: Dominique Blom, General Deputy Assistant Secretary.

Date Granted: January 22, 2022.

Reason Waived: The waiver was granted to allow SHA to extend the term of the contract of participation for an additional year. SHA states it has participant who is nearing the end of their original extension, and who would be a successful FSS graduate had they not had the COVID-19 pandemic prevent them from completing the remaining goals and fulfilling their Contract of Participation. In accordance with 24 CFR 984.303(d), good cause exists, and HUD approves.

Contact: Anice Chenault, Office of Public Housing Investments, Office of Public and Indian Housing, Department of Housing and Urban Development, 451 Seventh Street SW, Washington, DC 20140, Room 4130, telephone (502) 618-8163.

• Regulation: 24 CFR 984.303(d).

Project/Activity: Town of Brookhaven Housing Authority.

Nature of Requirement: Contract extension. The PHA shall, in writing, extend the term of the contract of participation for a period not to exceed two years for any FSS family that requests, in writing, an extension of the contract, provided that the PHA finds that good cause exists for granting the extension.

Granted by: Dominique Blom, General Deputy Assistant Secretary.

Date Granted: February 2, 2022.

Reason Waived: The waiver was granted to allow TBHA to extend the term of the contract of participation for an additional six months. TBHA states it has a participant who is nearing the end of their original extension, and who would be a successful FSS graduate had they not had the COVID-19 pandemic prevent them from completing the remaining goal of continuous employment and fulfilling their Contract of Participation. In accordance with 24 CFR 984.303(d), good cause exists, and HUD approves.

Contact: Anice Chenault, Office of Public Housing Investments, Office of Public and Indian Housing, Department of Housing and Urban Development, 451 Seventh Street SW, Washington, DC 20140, Room 4130, telephone (502) 618-8163.

• Regulation: 24 CFR 985.105, 24 CFR 985.101.

Nature of Requirement: Notice PIH 2021-34 Expedited Waivers for the Public Housing and Housing Choice Voucher (including Mainstream and Mod Rehab) Program(s), 24 CFR 985.105, 24 CFR 985.101 whereas PHAs with a fiscal year end 3/31/22, 6/30/22, or 9/30/22 may request to waive Section Eight Management Assessment Program (SEMAP) if an indicator declines as a result of operational disruptions and from its adoption of one or more CARES Act waivers.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: January 1-March 31, 2022.

Project/Activity: Franklin County Regional Housing Authority; Thurston County Housing Authority; Lapeer Housing Commission; Kennewick Housing Authority; Sonoma Housing Authority; Ventura County Housing Authority; Newark Housing Authority; Laconia Housing and Redevelopment Authority; Marlboro County Housing Authority; Huntsville Housing Authority; Birmingham Housing Authority; Jonesboro Housing Authority; Tampa Housing Authority; Sarasota Housing Authority; Walton County Housing Authority; Lincolnton Housing Authority; Salem Housing Authority; North Providence Housing Authority; Douglas Housing Authority; Garden Grove Housing Authority; Georgia Department of Community Affairs; New Orleans Housing Authority; St. Louis Housing Authority; New Hampshire Housing Finance Agency; Palm Beach County Housing Authority; Greenfield Housing Authority; Hagerstown Housing Authority; Scottsdale Housing Authority; Housing Authority of the County of Santa Cruz; Torrance Housing Authority; Iowa City Housing Authority; Mason City Housing Authority; Michigan State Housing Development Authority; Cumberland Housing Authority; Municipality of Ponce Housing Authority; Snohomish County Housing Authority; San Francisco Housing Authority; Orange County Housing Authority; Pico Rivera Housing Authority; City of Norwalk Housing Authority; Fulton Housing Authority; Yamhill Housing Authority; Darlington Housing Authority; Vermont State Housing Authority; Leeds Housing Authority; Berkeley Housing Authority; Pahokee Housing Authority; Owensboro Housing Authority; Erie Metropolitan Housing Authority; Nanticoke Housing Authority; Municipality of Cidra Housing Authority; Burlington Housing Authority; Contra Costa County Housing Authority; Anaheim Housing Authority; Milford Redevelopment and Housing Partnership; Milton Housing Authority; Gary Housing Authority; Ann Arbor Housing Commission; Sedalia Housing Authority; Missoula Housing Authority; Glens Falls Housing Authority; Homes For Good Housing Authority; Josephine Housing Council; Montour County Housing Authority; Burrillville Housing Authority; Municipality of Caguas Housing Authority; Municipality of Florida Housing Authority; Gadsden Housing Authority; City of Mesa Housing Authority; Winslow Housing Authority; Cochise County Housing Authority; Ormond Beach Housing Authority; Charles City Housing Authority; Marshall Housing Authority; Sanford Housing Authority; Reading Housing Authority; Lincoln Housing Authority; Municipality of Guanica Housing Authority; Municipality of Aibonito Housing Authority; Greenwood Housing Authority; Davis Community; Chandler Housing Authority; Yuma City Housing Authority; Inglewood Housing Authority; Redondo Beach Housing Authority; Hawaii County Housing Authority; Sioux City Housing Authority; Albany Housing Authority; Clermont Metropolitan Housing Authority; Sandusky Metropolitan Housing Authority; Northwest Oregon Housing Authority; Murfreesboro Housing Authority; Newport News Redevelopment and Housing Authority; Housing Authority of the City of Pasco and Franklin County; Skagit County Housing Authority; Wisconsin Housing and Economic Development Authority; Gila County Housing Authority; Riverside County Housing Authority; Cedar Rapids Housing Authority; St. Joseph County Housing Authority; Kenner Housing Authority; Boston Housing Authority; Methuen Housing Authority; Amesbury Housing Authority; Brunswick Housing Authority; Town of Islip Housing Authority; Jefferson County Housing Authority; Cleveland Housing Authority; Roanoke Redevelopment and Housing Authority; Franklin Redevelopment and Housing Authority; Bennington Housing Authority; Housing Authority of Maricopa County; LA County Development Authority (LACDA); San Joaquin Housing Authority; Fairfield Housing Authority; Napa Housing Authority; Culver City Housing Authority; National City Housing Authority; Roseville Housing Authority; Clearwater Housing Authority; Pensacola, City Housing Authority; Hernando County Housing Authority; Lafayette Housing Authority; Eckan Housing; Fall River Housing Authority; Malden Housing Authority; Detroit Housing Commission; Grand Rapids Housing Commission; St. Clair County Housing Authority; Asheboro Housing Authority; Dover Housing Authority; Harrison Metropolitan Housing Authority; Housing Works; Allentown Housing Authority; Titusville Housing Authority; Municipality of Las Marias Housing Authority; Municipality of Villalba Housing Authority; Memphis Housing Authority; Lafollette Housing Authority; South Plains Regional Housing Authority; Suffolk Redevelopment and Housing Authority; Auburn Housing Authority; Prichard Housing Authority; Fayetteville Housing Authority; Tucson Housing and Community Development; Flagstaff Housing Authority; Pinal County Housing Authority; Pima County Housing Authority; Crescent City Housing Authority; Alameda County Housing Authority; Santa Barbara City Housing Authority; Pasadena Housing Authority; Mendocino County Housing Authority; Oceanside Housing Authority; Lake Housing Authority; Bristol Housing Authority; City of Hartford Housing Authority; Orange County Housing Authority; Volusia County Housing Authority; Americus Housing Authority; Knox County Housing Authority; East Peoria Housing Authority; Crawfordsville Housing Authority; Decatur Housing Authority; Greencastle Housing Authority; Shreveport Housing Authority; Wilmington Housing Authority; Dartmouth Housing Authority; Roseville Housing Commission; Plymouth Housing Commission; Mount Pleasant Housing Commission; Albert Lea Housing and Redevelopment Authority; The New Reidsville Housing Authority; Berlin Housing Authority; Lancaster Housing Authority; Northumberland Housing Authority; Santa Fe Civic Housing Authority; Santa Fe County Housing Authority; Western Regional Housing Authority; Southern Nevada Regional Housing Authority; Schenectady Muni Housing Authority; Mid-Columbia Housing Authority; Delaware County Housing Authority; South Kingstown Housing Authority; Municipality of Penuelas Housing Authority; Municipality of Guayanilla Housing Authority; Municipality of San Sebastian Housing Authority; Municipality of Coamo Housing Authority; Housing Connect-Salt Lake County; Columbia Gorge Housing Authority; Waukesha Housing Authority; Little River County Housing Authority; Shasta County Housing Authority; Santa Monica Housing Authority; Pomona Housing Authority; Imperial Valley Housing Authority; Colorado Division of Housing; Wallingford Housing Authority; City And County of Honolulu Housing Authority; Hawaii Public Housing Authority; Boone County Housing Authority; Muncie Housing Authority; Anderson Housing Authority; Cannelton Housing Authority; Lawrence County Housing Authority; Cumberland Valley Housing Authority; St. John The Baptist Parish Housing Authority; Lynn Housing Authority; Westminster Housing Office; Benton Township Housing Commission; Nevada Rural Housing Authority; Mechanicville Housing Authority; Village of Sea Cliff Housing Authority; New York State Housing Trust Fund Corporation; Dauphin County Housing Authority; Central Falls Housing Authority; Municipality of San Juan Housing Authority; Charleston County Housing Authority; N Charleston Housing Authority; Brownsville Housing Authority; Corpus Christi Housing Authority; Longview Housing Authority; The Housing Authority of The City of Montgomery; Monterey Housing Authority; Marin Housing; Vallejo Housing Authority; Baldwin Park Housing Authority; East Haven Housing Authority; Broward County Housing Authority; Pasco County Housing Authority; Michigan City Housing Authority; Columbus Housing Authority; Salina Housing Authority; Crowley Housing Authority; Lowell Housing Authority; Quincy Housing Authority; Somerville Housing Authority; Arlington Housing Authority; Hanson Housing Authority; Carroll County Housing and Community Development; Lansing Housing Commission; Stearns County Housing and Redevelopment Authority; Butte Housing Authority; Gastonia Housing Authority; Franklin Housing Authority; Cincinnati Metropolitan Housing Authority; Tioga County Housing Authority; Dubois Housing Authority; Municipality of Guaynabo Housing Authority; Municipality of Manati Housing Authority; Municipality of Juana Diaz Housing Authority; Municipality of Cabo Rojo Housing Authority; Municipality of Las Piedras Housing Authority; Municipality of Lares Housing Authority; Municipality of Vieques Housing Authority; Municipality of Orocovis Housing Authority; Peninsula Housing Authority; Kaukauna Housing Authority; Bessemer Housing Authority; Pine Bluff Housing Authority; Derby Housing Authority; Amherst Housing Authority; Prince Georges Housing Authority; Bernalillo County Housing Authority; San Miguel County Housing Authority; Mansfield Metropolitan Housing Authority; Huron Metropolitan Housing Authority; Crawford Metropolitan Housing Authority; Seneca Metropolitan Housing Authority; Westmoreland County Housing Authority; Ford County Housing Authority; Lake Metropolitan Housing Authority; Jasper Housing Authority; South Tucson Housing Authority; South Gate Housing Authority; Vacaville Housing Authority; Solano Housing Authority; Glastonbury Housing Authority; Gainesville Housing Authority; Winter Haven Housing Authority; Housing Authority of Elgin; McHenry County Housing Authority; Mishawaka Housing Authority; Elkhart Housing Authority; Rockville Housing Authority; Madisonville Housing Authority; Brookline Housing Authority; Stoughton Housing Authority; Baltimore County, Md Housing Authority; Pontiac Housing Commission; Grayling Housing Commission; Taylor Housing Commission; Ionia Housing Commission; Northwest Minnesota Multi-County Housing and Redevelopment Authority; Dallas County Housing Authority; Mississippi Regional Housing Authority VI; Concord Housing Authority; Housing Authority of the County of Wake; Isothermal Housing Authority; Nashua Housing Authority; Albuquerque Housing Authority; Eastern Regional Housing Authority; El Camino Real Housing Authority; Syracuse Housing Authority; Cortland Housing Authority; Lockport Housing Authority; Boonville Housing Authority; Ohio Housing Finance Agency; McKeesport Housing Authority; Allegheny County Housing Authority; Beaver County Housing Authority; Snyder County Housing Authority; Municipality of Bayamon Housing Authority; Municipality of Guayama Housing Authority; Municipality of Arecibo Housing Authority; Municipality of Ciales Housing Authority; Municipality of Santa Isabel Housing Authority; Municipality of Juncos Housing Authority; Beaufort Housing Authority; Harris County Housing Authority; Deep East Texas Council of Governments; Ogden Housing Authority; Virginia Housing Development Authority; Ashland County Housing Authority; Decatur Housing Authority; York Housing Authority; North Little Rock Housing Authority; Phoenix Housing Development; Calexico City Housing Authority; San Luis Obispo Housing Authority; Charter Oak Communities; Marianna Housing Authority; Ft. Pierce Housing Authority; Ft. Myers Housing Authority; Tallahassee Housing Authority; Deerfield Beach Housing Authority; Newnan Housing Authority; Boise City Housing Authority; Ada County Housing Authority; Henry County Housing Authority; Vincennes Housing Authority; Richmond Housing Authority; Bloomington Housing Authority; Marion Housing Authority; Warsaw Housing Authority; Hopkinsville Housing Authority; Medford Housing Authority; Northampton Housing Authority; Stockbridge Housing Authority; Chelmsford Housing Authority; Norwood Housing Authority; American Training, Inc; Harford County Housing Agency; Cecil County Housing Agency; Portland Housing Authority; Auburn Housing Authority; Ellsworth Housing Authority; Cheboygan Housing Commission; Dakota County Community Development Agency; Phelps County Public Housing Authority; Wilmington Housing Authority; Raleigh Housing Authority; New Brunswick Housing Authority; Vineland Housing Authority; Fairport, Village Housing Authority; Dayton Metropolitan Housing Authority; Trumbull Metropolitan Housing Authority; Stark Metropolitan Housing Authority; Brown Metropolitan Housing Authority; Washington County Housing Authority; Northumberland County Housing Authority; Pawtucket Housing Authority; Cranston Housing Authority; East Providence Housing Authority; Puerto Rico Public Housing Administration; Municipality of Dorado Housing Authority; Municipality of Humacao Housing Authority; Municipality of Rincon Housing Authority; Municipality of Arroyo Housing Authority; Municipality of Ceiba Housing Authority; Sioux Falls Housing Authority; Knoxville Community Development Corporation; Tennessee Housing; Galveston Housing Authority; Abilene Housing Authority; Hopewell Redevelopment and Housing Authority; Norfolk Redevelopment and Housing Authority; Abingdon Redevelopment and Housing Authority; Housing Kitsap Public Housing Authority; Parkersburg Housing Authority; Weirton Housing Authority; Raleigh County Housing Authority; Boone County Housing Authority.

[FR Doc. 2022-21503 Filed 10-3-22; 8:45 am]

BILLING CODE 4210-67-P